SMALL BUSINESS ADMINISTRATION

National Small Business Development Center Advisory Board; Public Meeting

The U.S. Small Business Administration, National Small Business Development Center Advisory Board will be hosting a public meeting via conference call on Tuesday, April 18, 2006 at 1 p.m. eastern standard time. The purpose of the meeting is to address ongoing issues of interest in the Small Business Development Center program; to plan for future projects; and to discuss the location for the summer meeting.

Anyone wishing to make an oral presentation to the Board must contact Erika Fischer, Senior Program Analyst, U.S. Small Business Administration, Office of Small Business Development Centers, 409 3rd Street, SW., Washington, DC 20416, telephone (202) 205-7045 or fax (202) 481-0681.

Matt Pohl,
Special Assistant, Intergovernmental Affairs.

[FR Doc. E6-5238 Filed 4-10-06; 8:45 am]

BILLING CODE 8025-01-P